DEPARTMENT OF COMMERCE

Foreign-Trade Zones Board

[S-79-2019]

Approval of Subzone Status; Maine Coast Shellfish LLC; York, Maine

On May 1, 2019, the Executive Secretary of the Foreign-Trade Zones (FTZ) Board docketed an application submitted by the City of Waterville, grantee of FTZ 186, requesting subzone status subject to the existing activation limit of FTZ 186, on behalf of Maine Coast Shellfish LLC, in York, Maine.

The application was processed in accordance with the FTZ Act and Regulations, including notice in the Federal Register inviting public comment (84 FR 19756-19757, May 6, 2019). The FTZ staff examiner reviewed the application and determined that it meets the criteria for approval. Pursuant to the authority delegated to the FTZ Board Executive Secretary (15 CFR Sec. 400.36(f)), the application to establish Subzone 186B was approved on June 26, 2019, subject to the FTZ Act and the Board's regulations, including Section 400.13, and further subject to FTZ 186's 2,000-acre activation limit.

Dated: June 26, 2019.
Andrew McGilvray,
Executive Secretary.

[FR Doc. 2019-13987 Filed 6-28-19; 8:45 am]

BILLING CODE 3510-DS-P